DEPARTMENT OF DEFENSE

GENERAL SERVICES ADMINISTRATION

NATIONAL AERONAUTICS AND SPACE ADMINISTRATION

48 CFR Chapter 1

[Docket No. FAR-2021-0051, Sequence No. 2]

Federal Acquisition Regulation: Federal Acquisition Circular 2021-05; Small Entity Compliance Guide

AGENCY: Department of Defense (DoD), General Services Administration (GSA), and National Aeronautics and Space Administration (NASA).

ACTION: Small Entity Compliance Guide.

SUMMARY: This document is issued under the joint authority of DoD, GSA, and NASA. This Small Entity Compliance Guide (SECG) has been prepared in accordance with section 212 of the Small Business Regulatory Enforcement Fairness Act of 1996. It consists of a summary of the rule appearing in Federal Acquisition Circular (FAC) 2021-05, which amends the Federal Acquisition Regulation (FAR). Interested parties may obtain further information regarding this rule by referring to FAC 2021-05, which precedes this document.

DATES: March 10, 2021.

FOR FURTHER INFORMATION CONTACT: Ms. Lois Mandell, Regulatory Secretariat Division (MVCB), at 202-501-4755 or GSARegSec@gsa.gov, for information pertaining to status or publication schedules. Please cite FAC 2021-05, Technical Amendments.

Rule Listed in FAC 2021-05
Subject
Technical Amendments

ADDRESSES: The FAC, including the SECG, is available via the internet at https://www.regulations.gov.

SUPPLEMENTARY INFORMATION: A summary for the FAR rule follows. For the actual technical amendments made by this rule, refer to the specific amendments set forth in the document preceding this SECG. FAC 2021-05 amends the FAR as follows:

Technical Amendments

Editorial changes are made at FAR 4.402 and 52.204-2.

William F. Clark,
Director, Office of Government-wide Acquisition Policy, Office of Acquisition Policy, Office of Government-wide Policy.

[FR Doc. 2021-04850 Filed 3-9-21; 8:45 am]

BILLING CODE 6820-EP-P